DEPARTMENT OF DEFENSE

Office of the Secretary

[Transmittal No. 22-25]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-25 with attached Policy Justification and Sensitivity of Technology.

Dated: May 15, 2024.
Aaron T. Siegel,
Alternate OSD Federal Register Liaison Officer, Department of Defense.

BILLING CODE 6001-FR-P

BILLING CODE 6001-FR-C

Transmittal No. 22-25

Notice of Proposed Issuance of Letter of Offer and Acceptance Pursuant to Section 36(b)(1) of the Arms Export Control Act, as Amended

(i) Prospective Purchaser: Government of the Netherlands

(ii) Total Estimated Value:

Major Defense Equipment * | $104.6 million.
Other | $ 12.4 million.
TOTAL | $117.0 million.

(iii) Description and Quantity or Quantities of Articles or Services under Consideration for Purchase: Foreign Military Sales (FMS) case NE-P-AGJ, was below congressional notification threshold at $16.8 million ($15.3 million in MDE) and included twenty-three (23) AIM-9X Block II Tactical Missiles. The Government of the Netherlands has requested the case be amended to include an additional fifty (50) AIM-9X Block II Tactical Missiles and requested a new FMS case for twenty-two (22) AIM-9X Block II Tactical Missiles; forty-three (43) AIM-9X Block II+ Tactical Missiles; and one (1) AIM-9X Block II+ Tactical Guidance Unit. This case amendment and new FMS case will increase the total case values above the MDE notification threshold and thus require notification of the entirety of the FMS cases.

Major Defense Equipment (MDE):

Ninety-five (95) AIM-9X Block II Tactical Missiles

Forty-three (43) AIM-9X Block II+ Tactical Missiles

One (1) AIM-9X Block II+ Tactical Guidance Unit

Non-MDE:

Also included are containers; classified and unclassified software; U.S. Government and contractor technical assistance; and other related elements of logistical and program support.

(iv) Military Department: Navy (NE-P-AGM, NE-P-AGJ)

(v) Prior Related Cases, if any: NE-P-AGE

(vi) Sales Commission, Fee, etc., Paid, Offered, or Agreed to be Paid: None

(vii) Sensitivity of Technology Contained in the Defense Article or Defense Services Proposed to be Sold: See Attached Annex

(viii) Date Report Delivered to Congress: May 26, 2022

* As defined in Section 47(6) of the Arms Export Control Act.

POLICY JUSTIFICATION

The Netherlands—AIM-9X Block II Missiles

The Government of the Netherlands has requested to buy seventy-two (72) AIM-9X Block II Tactical Missiles; and forty-three (43) AIM-9X Block II+ Tactical Missiles that will be added to a previously implemented case. The original FMS case, valued at $16.8 million, included twenty-three (23) AIM-9X Block II Tactical Missiles. The Netherlands has also requested a new FMS case for twenty-two (22) AIM-9X Block II Tactical Missiles; forty-three (43) AIM-9X Block II+ Tactical Missiles; and one (1) AIM-9X Block II+ Tactical Guidance Unit. Therefore, this notification is for a total of ninety-five (95) AIM-9X Block II Tactical Missiles; forty-three (43) AIM-9X Block II+ Tactical Missiles; and one (1) AIM-9X Block II+ Tactical Guidance Unit. Also included are containers; classified and unclassified software; U.S. Government and contractor technical assistance; and other related elements of logistical and program support. The total estimated cost is $117 million.

This proposed sale will support the foreign policy and national security objectives of the United States by helping to improve the security of a North Atlantic Treaty Organization (NATO) ally that is an important force for political stability and economic progress in Europe.

The proposed sale will enable the Royal Netherlands Air Force (RNAF) to provide stronger support for the Netherlands' air defense needs. This proposed sale of AIM-9X missiles will improve the RNAF's capability to conduct self-defense and regional security missions, enhancing interoperability with the U.S. and other NATO members. The Netherlands will have no difficulty absorbing these missiles into its armed forces.

The proposed sale of this equipment and support will not alter the basic military balance in the region.

The principal contractor will be Raytheon Missiles and Defense, Tucson, AZ. There are no known offset agreements proposed in connection with this potential sale.

Implementation of this sale will not require the assignment of any U.S. Government or contractor representatives to the Netherlands.

There will be no adverse impact on U.S. defense readiness as a result of this proposed sale.

Transmittal No. 22-25

Notice of Proposed Issuance of Letter of Offer and Acceptance Pursuant to Section 36(b)(l) of the Arms Export Control Act

Annex

Item No. vii

(vii) Sensitivity of Technology:

1. The AIM-9X Block II and Block II+ (Plus) Missile (including the Guidance Unit) replaces the AIM-9X Block I Missile configuration. The missile includes a high off-boresight seeker, enhanced countermeasure rejection capability, low drag/high angle of attack airframe and the ability to integrate the Helmet Mounted Cueing System. The software algorithms are the most sensitive portion of the AIM-9X missile. The software continues to be modified via a pre-planned product improvement (P3I) program in order to improve its counter-countermeasure capabilities. No software source code or algorithms will be released.

2. The highest level of classification of defense articles, components and services included in this potential sale is SECRET.

3. If a technologically advanced adversary were to obtain knowledge of the specific hardware and software elements, the information could be used to develop countermeasures that might reduce weapon system effectiveness or be used in the development of a system with similar or advanced capabilities.

4. A determination has been made that the Netherlands can provide substantially the same degree of protection for the sensitive technology being released as the U.S. Government. This sale is necessary in furtherance of the U.S. foreign policy and national security objectives outlined in the Policy Justification.

5. All defense articles and services listed in this transmittal have been authorized for release and export to the Government of the Netherlands.

[FR Doc. 2024-11036 Filed 5-17-24; 8:45 am]

BILLING CODE 6001-FR-P